DEPARTMENT OF AGRICULTURE

Forest Service

Withdrawal of Notice of Intent To Prepare an Environmental Impact Statement; Sand Lick Fork Watershed Restoration Project; Daniel Boone National Forest, KY

AGENCY: Forest Service, USDA.

ACTION: Notice of Withdrawal.

SUMMARY: In the Tuesday, September 11, 2012 Federal Register (FR) Vo. 77, No. 176, pages 55796-55798, the Forest Service announced its intention to prepare an Environmental Impact Statement (EIS) in accordance with the National Environmental Policy Act, 42 U.S.C. 4321 (NEPA) to improve water quality and reduce soil loss on the Daniel Boone National Forest. The draft environmental impact statement expected in December 2012 was not completed. The Forest Service withdraws the Notice of Intent to prepare an EIS because public involvement discussions revealed a need for additional collaboration. This withdrawal does not preclude future proposals for Forest Service management within the project area.

DATES: This action is effective upon publication in the Federal Register.

FOR FURTHER INFORMATION CONTACT: Jonathan Kazmierski at 606-784-6428 or via email at jkazmierski@fs.fed.us. Individuals who use telecommunication devices for the deaf (TDD) may call the Federal Information Relay Service (FIRS) at 1-800-877-8339 between 8 a.m. and 8 p.m., Eastern Time, Monday through Friday.

Jonathan Kazmierski,
District Ranger.

[FR Doc. 2016-18690 Filed 8-9-16; 8:45 am]

BILLING CODE 3410-11-M